DEPARTMENT OF TRANSPORTATION

Office of the Secretary

Aviation Proceedings, Agreements Filed the Week Ending May 6, 2005

The following Agreements were filed with the Department of Transportation under the provisions of 49 U.S.C. 412 and 414. Answers may be filed within 21 days after the filing of the application.

Docket Number: OST-2005-21122.

Date Filed: May 2, 2005.

Parties: Members of the International Air Transport Association.

Subject: PTC COMP 1230 dated 2 May 2005, Mail Vote 447—Resolution 024d—Currency Names, Codes, Rounding Units and Acceptability of Currencies. Intended effective date: 1 May 2005.

Docket Number: OST-2005-21172.

Date Filed: May 4, 2005.

Parties: Members of the International Air Transport Association.

Subject: PTC COMP 1231 dated 2 May 2005, Resolution 002aa—General Increase Resolution except within Europe, between USA/US Territories and Austria, Belgium, Chile, Czech Republic, Finland, France, Germany, Iceland, Italy, Jordan, Korea (Rep. of), Malaysia, Netherlands, New Zealand, Panama, Scandinavia, Switzerland; PTC COMP 1232 dated 2 May 2005 Resolution 002a—General Increase Resolution between USA/US Territories and Austria, Belgium, Chile, Czech Republic, Finland, France, Germany, Iceland, Italy, Jordan, Korea (Rep. of), Malaysia, Netherlands, New Zealand, Panama, Scandinavia, Switzerland; Minutes: PTC COMP 1233 dated 4 May 2005 Intended effective date: 30 May 2005.

Andrea M. Jenkins,
Program Manager, Docket Operations, Federal Register Liaison.

[FR Doc. 05-10090 Filed 5-19-05; 8:45 am]

BILLING CODE 4910-62-P